ENVIRONMENTAL PROTECTION AGENCY

[FRL-8239-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held November 15, 2006, at RESOLVE, Washington, DC, and November 16 at Hotel Washington, Washington, DC. The CHPAC was created to advise the Environmental Protection Agency on science, regulations, and other issues relating to children's environmental health.

DATES: A workshop on Emerging Chemicals of Concern and Children's Environmental Health will take place on Wednesday, November 15, 2006, at RESOLVE. The CHPAC Plenary session will take place Thursday, November 16, 2006 at Hotel Washington.

ADDRESSES: RESOLVE, 1255 23rd Street, NW., Suite 275, Washington, DC. Hotel Washington, 515 15th Street, NW., Washington, DC.

FOR FURTHER INFORMATION CONTACT: Carolyn Hubbard, Office of Children's Health Protection and Environmental Education, USEPA, MC 1107A, 1200 Pennsylvania Avenue, NW., Washington, DC 20460, telephone (202) 564-2189, e-mail: hubbard.carolyn@epa.gov.

SUPPLEMENTARY INFORMATION: The meetings of the CHPAC are open to the public. The workshop on Emerging Chemicals of Concern and Children's Environmental Health will take place on Wednesday, November 15, 2006, at RESOLVE from 8:30 a.m. to 5:30 p.m. The workshop will review past efforts and current status of programs that identify emerging hazards and understand how children's environmental health is considered in the process, review scientific advances in modeling and testing for “emerging” problem chemicals and designing “green” product alternatives. It will also explore possible avenues for improving current government and industry practices to identify and reduce or prevent exposures to children from “emerging” chemicals that present unreasonable health risks.

The CHPAC plenary will meet on November 16, 2006, at the Hotel Washington from 9:30 a.m. to 5 p.m. Agenda items include discussion and next steps from the Emerging Chemicals Workshop and a presentation on the NIEHS evaluation of the Children's Environmental Health Research Centers. Draft agenda attached.

Access and Accommodations: For information on access or services for individuals with disabilities, please contact Carolyn Hubbard at 202-564-2189 or hubbard.carolyn@epa.gov. To request accommodation of a disability, please contact Carolyn Hubbard preferably at least 10 days prior to the meeting, to give EPA as much time as possible to process your request.

Dated: October 30, 2006.
Carolyn Hubbard,
Designated Federal Official.

U.S. Environmental Protection Agency; Children's Health Protection Advisory Committee

Draft Agenda

Wednesday, November 15, 2006

RESOLVE

1255 23rd Street, NW., Suite 275

Washington, DC 20037

8:30-8:45 Welcome and Introductions

8:45-9 Workshop Introduction: Review workshop objectives.

9-12:15 Session I: Methods to Identify Possible Emerging Chemicals of Concern

9-10 Past Methods to Identify Potential Chemicals of Concern: Case Studies of Existing Chemicals That Emerged as Exposure Issues to Children

10-11 Current Methods to Identify Exposure/Toxicant Concerns for New Chemicals

11-11:15 Break

11:15-12:15 Other Perspectives on Screening and Testing of New Chemicals to Limit Children's Exposures to Chemicals in Commerce.

11:15-11:45 Looking at Potential Exposures to Children Resulting from the Use of Consumer Products

11:45-12:15 Efforts to Reduce VOC in Indoor Air from Building Products/Furnishings

12:15-1:30 Lunch

1:30-3:30 Session II: Managing Potential Emerging Concerns of Existing Chemicals

1:30-2 Green Chemistry & Design for the Environment Initiatives at EPA

2-2:45 Evaluating “Safer” Cleaning Products to Reduce Indoor Air Exposures to Children

2:45-3:30 Tracking Existing Chemical Uses, Exposures, and Toxicity

3:30-3:45 Break

3:45-5 Session III: How Can We Improve the Current System to Limit Children's Exposures to Industrial Chemicals of Concern? Panel Presentation/Discussion

5 Public Comment

5:30 Wrap-up and Adjourn for the Day

Thursday, November 16, 2006

Hotel Washington

515 15th Street, NW.

Washington, DC

8-9:30 Emerging Chemicals of Concern Task Group

9:30-9:35 Welcome and Review Day's Agenda

9:35-10 Highlight of Recent OCHPEE Activities

10-11 Discussion and Next Steps from Emerging Chemicals Workshop

11-12 Emerging Chemicals of Concern Task Group Update and PBDE Letter

12-1:30 Lunch

1:30-2 Public Comment

2-3 Children's Environmental Health Research Centers (CEHRC)

3-4 Upcoming Issues for CHPAC

4-5 Review and Decide on PBDE Letter (continued)

5 Adjourn

[FR Doc. E6-18587 Filed 11-2-06; 8:45 am]

BILLING CODE 6560-50-P